DEPARTMENT OF DEFENSE

Office of the Secretary

[Transmittal No. 17-01]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-01 with attached Policy Justification.

Dated: September 22, 2017.
Aaron Siegel,
Alternate OSD Federal Register Liaison Officer, Department of Defense.

BILLING CODE 5001-06-P

BILLING CODE 5001-06-C

Transmittal No. 17-01

Notice of Proposed Issuance of Letter of Offer Pursuant to Section 36(b)(1) of the Arms Export Control Act, as amended

(i) Prospective Purchaser: Bahrain

(ii) Total Estimated Value:

Major Defense Equipment * | $ 5.10 million
Other | $55.15 million
Total | $60.25 million

(iii) Description and Quantity or Quantities of Articles or Services under Consideration for Purchase:

Major Defense Equipment (MDE):

Two (2) MK 38 Mod 3 25mm Gun Weapons Systems

Non-MDE:

Two (2) 35 meter Fast Patrol Boats; two (2) SeaFLIR 380 HD Forward Looking Infra-Red (FLIR) devices; communication equipment; support equipment; spare and repair parts; tools and test equipment; technical data and publications; personnel training; U.S. government and contractor engineering, technical, and logistics support services; and other related elements of logistics and program support.

(iv) Military Department: Navy

(v) Prior Related Cases, if any: None

(vi) Sales Commission, Fee, etc., Paid, Offered, or Agreed to be Paid: None

(vii) Sensitivity of Technology Contained in the Defense Article or Defense Services Proposed to be Sold: None

(viii) Date Report Delivered to Congress: September 8, 2017

* as defined in Section 47(6) of the Arms Export Control Act.

POLICY JUSTIFICATION

Bahrain—35 Meter Fast Patrol Boats

Bahrain has requested the purchase of two (2) 35 meter Fast Patrol Boats, each equipped with one (1) MK38 Mod 3 25mm gun weapon system and one (1) SeaFLIR 380 HD Forward Looking Infra-Red (FLIR) device. Additionally, Bahrain has requested communication equipment; support equipment; spare and repair parts; tools and test equipment; technical data and publications; personnel training; U.S. government and contractor engineering, technical, and logistics support services; and other related elements of logistics and program support. The total estimated cost is $60.25 million.

This proposed sale will contribute to the foreign policy and national security of the United States by helping to improve the security of a major Non-NATO ally, which has been and continues to be an important security partner in the region. This proposed sale of patrol boats will enhance the military capabilities of the Royal Bahrain Naval Force in the fulfillment of its self-defense, maritime security, and counter-terrorism missions.

Bahrain will use the capability as a deterrent to regional threats and to strengthen its homeland defense. This sale will also improve interoperability with United States and regional allies. Bahrain will have no difficulty absorbing this equipment into its armed forces.

The proposed sale of this equipment and support will not alter the basic military balance in the region.

The principal contractors for systems listed include: 35 meter Fast Patrol Boats-SwiftShips, Morgan City, LA; MK38 Mod 3 25mm Gun Weapon System-BAE Systems, Louisville, KY; SeaFlir Model 380 HD Forward Looking Infra-Red Device-Flir Systems, Inc., Portland, OR. There are no known offset agreements proposed in conjunction with this potential sale.

Implementation of this proposed sale will require multiple trips by U.S. Government and contractor representatives to participate in program and technical reviews plus boat reactivation and boat systems training in country, on a temporary basis, for a period of two years.

There will be no adverse impact on U.S. defense readiness as a result of this proposed sale.

[FR Doc. 2017-20732 Filed 9-27-17; 8:45 am]

BILLING CODE 5001-06-P